Proclamation 9682 of December 4, 2017

Modifying the Grand Staircase-Escalante National Monument

By the President of the United States of America

A Proclamation

In Proclamation 6920 of September 18, 1996, and exercising his authority under the Act of June 8, 1906 (34 Stat. 225) (the “Antiquities Act”), President William J. Clinton established the Grand Staircase-Escalante National Monument in the State of Utah, reserving approximately 1.7 million acres of Federal lands for the care and management of objects of historic and scientific interest identified therein. The monument is managed by the Department of the Interior's Bureau of Land Management (BLM). This proclamation makes certain modifications to the monument.

Proclamation 6920 identifies a long list of objects of historic or scientific interest within the boundaries of the monument. In the 20 years since the designation, the BLM and academic researchers have studied the monument to better understand the geology, paleontology, archeology, history, and biology of the area.

The Antiquities Act requires that any reservation of land as part of a monument be confined to the smallest area compatible with the proper care and management of the objects of historic or scientific interest to be protected. Determining the appropriate protective area involves examination of a number of factors, including the uniqueness and nature of the objects, the nature of the needed protection, and the protection provided by other laws.

Proclamation 6920 identifies the monument area as rich with paleontological sites and fossils, including marine and brackish water mollusks, turtles, crocodilians, lizards, dinosaurs, fishes, and mammals, as well as terrestrial vertebrate fauna, including mammals, of the Cenomanian-Santonian ages, and one of the most continuous records of Late Cretaceous terrestrial life in the world. Nearly 2 decades of intense study of the monument has provided a better understanding of the areas with the highest concentrations of fossil resources and the best opportunities to discover previously unknown species. While formations like the Wahweap and Kaiparowits occur only in southern Utah and provide an important record of Late Cretaceous fossils, others like the Chinle and Morrison formations occur throughout the Colorado Plateau. The modified monument boundaries take into account this new information and, as described in more detail below, retain the majority of the high-potential areas for locating new fossil resources that have been identified within the area reserved by Proclamation 6920.

Proclamation 6920 also identifies a number of unique geological formations and landscape features within the monument boundaries. These include the Grand Staircase, White Cliffs, Vermilion Cliffs, Kaiparowits Plateau, Upper Paria Canyon System, Upper Escalante Canyons, Burning Hills, Circle Cliffs, East Kaibab Monocline, Grosvenor Arch, and Escalante Natural Bridge, all of which are retained in whole or part within the revised monument boundaries. The Waterpocket Fold, however, is located mostly within the Capitol Reef National Park and the portions within the monument are not unique or particularly scientifically significant. Therefore, the boundaries of the monument may be modified to exclude the Waterpocket Fold without imperiling the proper care and management of that formation. The more general landscape features discussed in the proclamation, such as serpentine canyons, arches, and natural bridges, are common across the Colorado Plateau both within and outside of the modified boundaries of the monument described below.

Archeological and historic objects identified within the monument are more generally discussed in Proclamation 6920, which specifically identifies only the Hole-in-the-Rock Trail, the Paria Townsite, and Dance Hall Rock as objects of historic or scientific interest, all 3 of which will remain within the revised monument boundaries, although a portion of the Hole-in-the-Rock Trail will be excluded. Proclamation 6920 also describes Fremont and Ancestral Puebloan rock art panels, occupation sites, campsites, and granaries, as well as historic objects such as those left behind by Mormon pioneers, including trails, inscriptions, ghost towns, rock houses, and cowboy line camps. These are artifacts that are known to generally occur across the Four Corners region, particularly in southern Utah, and the examples found within the monument are not, as described, of any unique or distinctive scientific or historic significance. In light of the prevalence of similar objects throughout the region, the existing boundaries of the monument are not “the smallest area compatible with the proper care” of these objects, and they may be excluded from the monument's boundaries. Further, many of these objects or examples of these objects are retained within the modified boundaries described below.

Finally, with respect to the animal and plant species, Proclamation 6920 characterizes the area as one of the richest floristic regions in the Intermountain West, but it identifies only a few specific species as objects of scientific or historic interest. The revised boundaries contain the majority of habitat types originally protected by Proclamation 6920.

Thus, many of the objects identified by Proclamation 6920 are not unique to the monument, and some of the particular examples of those objects within the monument are not of significant historic or scientific interest. Moreover, many of the objects identified by Proclamation 6920 are not under threat of damage or destruction such that they require a reservation of land to protect them; in fact, many are already subject to Federal protection under existing law and agency management designations. The BLM manages nearly 900,000 acres of lands within the existing monument as Wilderness Study Areas, which the BLM is already required by law to manage so as not to impair the suitability of such areas for future congressional designation as Wilderness.

A host of laws enacted after the Antiquities Act provide specific protection for archaeological, historic, cultural, paleontological, and plant and animal resources and give authority to the BLM to condition permitted activities on Federal lands, whether within or outside a monument. These laws include the Archaeological Resources Protection Act of 1979, 16 U.S.C. 470aa-470mm, National Historic Preservation Act, 54 U.S.C. 300101 et seq., Bald and Golden Eagle Protection Act, 16 U.S.C. 668-668d, Endangered Species Act of 1973, 16 U.S.C. 1531 et seq., Federal Cave Resources Protection Act of 1988, 16 U.S.C. 4301 et seq., Federal Land Policy and Management Act of 1976, 43 U.S.C. 1701 et seq., Migratory Bird Treaty Act, 16 U.S.C. 703-712, Native American Graves Protection and Repatriation Act of 1976, 25 U.S.C. 3001 et seq., and Paleontological Resources Preservation Act, 16 U.S.C. 470aaa-470aaa-11. Of particular note, the Paleontological Resources Preservation Act, enacted in 2009, imposes criminal penalties for unauthorized excavation, removal, damage, alteration, or defacement of paleontological resources. Federal land management agencies can grant permits authorizing excavation or removal, but only when undertaken for the purpose of furthering paleontological knowledge. The Archaeological Resources Protection Act contains very similar provisions protecting archeological resources. And the Migratory Bird Treaty Act and Endangered Species Act protect migratory birds and listed endangered and threatened species and their habitats.

Especially in light of the research conducted since designation, I find that the current boundaries of the Grand Staircase-Escalante National Monument established by Proclamation 6920 are greater than the smallest area compatible with the protection of the objects for which lands were reserved and, therefore, that the boundaries of the monument should be reduced to 3 areas: Grand Staircase, Kaiparowits, and Escalante Canyons. These revisions will ensure that the monument is no larger than necessary for the proper care and management of the objects.

The Grand Staircase area is named for one of the iconic landscapes in the American West. An unbroken sequence of cliffs and plateaus, considered to be the most colorful exposed geologic section in the world, has inspired wonder in visitors since the days of early western explorers.

The White Cliffs that rise more than 1,500 feet from the desert floor are the hardened remains of the largest sand sea that ever existed. The deep red Vermilion Cliffs, once the eastern shore of the ancient Lake Dixie, contain a rich fossil record from the Late Triassic period to the early Jurassic period, including petrified wood, fish, dinosaur, and other reptilian bones. Fossil footprints are also common, including those at the Flag Point tracksite, which includes dinosaur fossil tracks adjacent to a Native American rock art panel depicting dinosaur tracks. This area also contains a number of relict vegetative communities occurring on isolated mesa tops, an example of which, No Mans Mesa, was identified in Proclamation 6920.

The archaeology of the Grand Staircase area is dominated by sites constructed by the Virgin Branch of the Ancestral Puebloans—ancient horticulturalists and farmers who subsisted largely on corn, beans, and squash, and occupied the area from nearly 2000 B.C.E. to about 1250 C.E. The landscape was also the home of some of the earliest corn-related agriculture in the Southwest, and it continues to hold remnants of these early farmsteads and small pueblos. The evidence of this history, including remnants of the beginning of agriculture, development of prehistoric farming systems, and the final abandonment of the area, is concentrated in the lower levels of the Grand Staircase. The higher cliffs, benches, and plateaus hold evidence of occupation by Archaic and Late Prehistoric people, including Clovis and other projectile points and residential pit structures that indicate occupation by hunter-gatherers starting about 13,000 years ago.

Following the abandonment of the area by Ancestral Puebloans, the area was re-occupied by a new population of hunter-gatherers, the people known today as the Southern Paiute Indians. The Southern Paiute Indians identify this area as part of their ancestral homeland. Still later Mormon pioneers settled the area, as evidenced by remnants of roads, trails, line shacks, rock houses, and abandoned town sites.

The Kaiparowits area is dominated by a dissected mesa that rises thousands of feet above the surrounding terrain. These vast, rugged badlands are characterized by towering cliffs and escarpments that expose tiers of fossil-rich formations.

In addition to striking scenery, the area is world-renowned for rich fossil resources, including 16 species that have been found nowhere else. The plateau is considered one of the best, most continuous records of Late Cretaceous life in the world. It includes fossils of mollusks, reptiles, dinosaurs, fishes, and mammals, as well as the only evidence in our hemisphere of terrestrial vertebrate fauna from the Cenomanian through Santonian ages. Since 2000, nearly 4,000 new fossil sites have been documented on the plateau. The Dakota, Tropic Shale, Wahweap, and Kaiparowits formations in the area have been found to contain numerous important fossils, including those of early mammals and reptiles (Dakota); marine reptiles, including 5 species of plesiosaur and North America's oldest mosasaur (Tropic Shale); and multiple new species of dinosaurs (Wahweap and Kaiparowits), including the Diabloceratops eatoni, a relative of the Triceratops named for its devil-like horns, and the Lythronax argestes, whose name means “Gore King of the Southwest.”

The Kaiparowits area also includes objects of geologic interest, which Proclamation 6920 identified. The rugged canyons and natural arches of the Upper Paria River expose the colorful and varied Carmel and Entrada formations that draw visitors to the area. One of the most famous arches, Grosvenor Arch, is a rare double arch that towers more than 150 feet above the desert floor. The area also contains “hydrothermal-collapse” pipes and dikes that have revealed to researchers a fascinating story of a geologic catastrophe triggered by either a massive earthquake or an asteroid impact.

The western side of the Kaiparowits area includes the majority of the East Kaibab Monocline, which features an erosional “hogback” known as the “Cockscomb,” as well as broad exposures of multicolored rocks and intricate canyons. It is considered one of the true scenic and geologic wonders of the area. On the east side of the plateau, the scorched earth of the Burning Hills is a geologic curiosity: a vast underground coal seam that some researchers believe has been burning for eons, sending acrid smoke up through vents in the ground and turning the hillsides brick red. Finally, along the eastern edge of the Kaiparowits Plateau is a series of oddly shaped arches and other rock formations known as the Devil's Garden.

The Kaiparowits area also contains a unique record of human history. The overall archaeology of the Kaiparowits Plateau is dominated by Archaic and Late Prehistoric era sites. There are, however, a few important sites that tell the story of occupation first by the Fremont, who came from an area to the east, and later by Virgin and Kayenta Ancestral Puebloans. These sites show new types of architecture and pottery that mixed traditional Fremont and Ancestral Puebloan styles. Prehistoric cliff structures in parts of the Kaiparowits Plateau are well preserved and provide researchers and visitors an opportunity to better understand the apparently peaceful mixture of 3 cultures starting in the early 1100s. In particular, the Fifty-Mile Mountain area contains hundreds of cultural resource sites, including Ancestral Puebloan habitations, granaries, and masonry structures.

Historical use of the Kaiparowits area plays a very important part in the rich ranching history of southern Utah, which is evidenced by a complex pattern of roads, stock trails, line shacks, attempted farmsteads, and small mining operations. Fifty-Mile Mountain, in particular, contains a number of historic cabins, as well as other evidence of pioneer living, including ruins, rip-gut fences, and historic trails. It is believed that Zane Grey used the Fifty-Mile Mountain area as a landscape reference point when he wrote “Wild Horse Mesa.” There are also a number of historic signature panels across the plateau that document continued grazing and ranching use of the landscape by multiple generations of the same families.

To the east of Fifty-Mile Mountain in the Escalante Desert, Dance Hall Rock stands out as an important landmark of Mormon pioneers. While the Hole-in-the-Rock Trail was under construction in 1879, Mormon pioneers camped in this area and held meetings and dances here. Similarly, as described above, the old Paria Townsite is an important ghost town within the Kaiparowits area, as it served as the only town and post office site within the area at the turn of the 20th century.

The Escalante Canyons area likewise contains objects of significance. The canyonlands of the area provide a fantastic display of geologic activities and erosional forces that, over millions of years, created a network of deep, narrow canyons, high plateaus, sheer cliffs, and beautiful sandstone arches and natural bridges, including the 130-foot-tall Escalante Natural Bridge. Additionally, this area boasts Calf Creek Canyon, a canyon of red alcoved walls with expanses of white slickrock that is named for its use as a natural cattle pen at the end of the 19th century.

To the east of the Canyonlands, Circle Cliffs is a breached anticline with spectacular painted-desert scenery, the result of exposed sedimentary rocks of the Triassic Chinle and Moenkopi formations. The Circle Cliffs area also contains large, unbroken petrified logs up to 30 feet in length. A nearly complete articulated skeleton of Poposauras—a rare bipedal crocodilian fossil—was also found here.

The Escalante Canyons area also contains a high density of Fremont prehistoric sites, including pithouses, villages, storage cysts, and rock art. The canyon of the Escalante River and its tributary canyons contain one of the highest densities of rock art sites in southwestern Utah outside of Capitol Reef National Park, with sites dating from the Archaic to the Historic periods. The Hundred Hands rock art panel is located in the river canyon, and is spiritually significant to all tribes that claim ancestry in the area.

There are also significant historic sites in this area related to grazing and ranching, along with the Boulder Mail Trail, which was used to ferry mail between the small desert outpost towns of Escalante and Boulder beginning in 1902. Today, much of the trail is still visible, and it has become popular with backpackers.

The areas described above are the smallest compatible with the proper care and management of the objects to be protected. The Grand Staircase-Escalante National Monument, as modified by this proclamation, will maintain and protect those objects and preserve the area's cultural, scientific, and historic legacy.

WHEREAS, Proclamation 6920 of September 18, 1996, established the Grand Staircase-Escalante National Monument in the State of Utah and reserved approximately 1.7 million acres of Federal lands for the care and management of the objects of historic and scientific interest identified therein; and

WHEREAS, many of the objects identified by Proclamation 6920 are otherwise protected by Federal law; and

WHEREAS, it is in the public interest to modify the boundary of the monument to exclude from its designation and reservation approximately 861,974 acres of land that I find are no longer necessary for the proper care and management of the objects to be protected within the monument; and

WHEREAS, the boundaries of the monument reservation should therefore be reduced to the smallest area compatible with the protection of the objects of scientific or historic interest, as described above in this proclamation;

NOW, THEREFORE, I, DONALD J. TRUMP, President of the United States of America, by the authority vested in me by section 320301 of title 54, United States Code, hereby proclaim that the boundary of the Grand Staircase-Escalante National Monument is hereby modified and reduced to those lands and interests in lands owned or controlled by the Federal Government within the boundaries described on the accompanying map, which is attached to and forms a part of this proclamation. I hereby further proclaim that the modified monument areas identified on the accompanying map shall be known as the Grand Staircase, Kaiparowits, and Escalante Canyons units of the monument. These reserved Federal lands and interests in lands cumulatively encompass approximately 1,003,863 acres. The boundaries described on the accompanying map are confined to the smallest area compatible with the proper care and management of the objects to be protected.

Any lands reserved by Proclamation 6920 not within the boundaries identified on the accompanying map are hereby excluded from the monument.

At 9:00 a.m., eastern standard time, on the date that is 60 days after the date of this proclamation, subject to valid existing rights, the provisions of existing withdrawals, and the requirements of applicable law, the public lands excluded from the monument reservation shall be open to:

(1) entry, location, selection, sale or other disposition under the public land laws;

(2) disposition under all laws relating to mineral and geothermal leasing; and

(3) location, entry, and patent under the mining laws.

Appropriation of lands under the mining laws before the date and time of restoration is unauthorized. Any such attempted appropriation, including attempted adverse possession under 30 U.S.C. 38, shall vest no rights against the United States. Acts required to establish a location and to initiate a right of possession are governed by State law where not in conflict with Federal law.

Nothing in this proclamation shall be construed to revoke, modify, or affect any withdrawal, reservation, or appropriation, other than the one created by Proclamation 6920.

Nothing in this proclamation shall change the management of the areas designated and reserved by Proclamation 6920 that remain part of the monument in accordance with the terms of this proclamation, except as provided by the following 5 paragraphs:

Paragraph 14 of Proclamation 6920 is updated and clarified to require that the Secretary of the Interior (Secretary) prepare and maintain a management plan for each of the 3 units of the monument with maximum public involvement including, but not limited to, consultation with federally recognized tribes and State and local governments. The Secretary, through the BLM, shall also consult with other Federal land management agencies in the local area in developing the management plans.

Proclamation 6920 is amended to provide that the Secretary shall maintain one or more advisory committees under the Federal Advisory Committee Act (5 U.S.C. App.) to provide information and advice regarding the development of the above-described management plans, and, as appropriate, management of the monument. Any advisory committee maintained shall consist of a fair and balanced representation of interested stakeholders, including State and local governments, tribes, recreational users, local business owners, and private landowners.

Proclamation 6920 is clarified to provide that, consistent with protection of the objects identified above and other applicable law, the Secretary may allow motorized and non-mechanized vehicle use on roads and trails existing immediately before the issuance of Proclamation 6920 and maintain roads and trails for such use.

Paragraph 12 of Proclamation 6920 governing livestock grazing in the monument is hereby modified to read as follows: “Nothing in this proclamation shall be deemed to affect authorizations for livestock grazing, or administration thereof, on Federal lands within the monument. Livestock grazing within the monument shall continue to be governed by laws and regulations other than this proclamation.”

Proclamation 6920 is amended to clarify that, consistent with the care and management of the objects identified above, the Secretary may authorize ecological restoration and active vegetation management activities in the monument.

If any provision of this proclamation, including its application to a particular parcel of land, is held to be invalid, the remainder of this proclamation and its application to other parcels of land shall not be affected thereby.

IN WITNESS WHEREOF, I have hereunto set my hand this fourth day of December, in the year of our Lord two thousand seventeen, and of the Independence of the United States of America the two hundred and forty-second.

Billing code 3295-F8-P

[FR Doc. 2017-26714

Filed 12-7-17; 11:15 am]

Billing code 4310-10-C